FEDERAL COMMUNICATIONS COMMISSION

Privacy Act System of Records

AGENCY: Federal Communications Commission (FCC or Commission).

ACTION: Notice of new privacy act systems of records.

SUMMARY: Pursuant to the provisions of the Privacy Act of 1974, as amended, (5 U.S.C. 552a), the FCC is adding a new Systems of Records, OMD-9, “Commission Registration System” (“CORES”). The FCC will use the records contained in FCC/OMD-9 to link payments to licensing records of the Federal Communications Commission. The functions in this Systems of Records will be performed by the Office of the Managing Director (OMD), Associate Managing Director-Financial Operations (AMD-FO). This notice meets the requirement documenting the change in the Commission's system of records, and provides the public, Congress, and the Office of Management and Budget (OMB) an opportunity to comment.

DATES: Any interested person may submit written comments concerning the routine uses of this system on or before May 8, 2000. The Office of Management and Budget (OMB), which has oversight responsibility under the Privacy Act to review these systems, may submit comments on or before May 16, 2000. These proposed systems shall be effective on May 16, 2000 unless the FCC receives comments that require a contrary determination. The Commission will publish a document in the Federal Register notifying the public if any changes are necessary. As required by 5 U.S.C. 552a(o) of the Privacy Act, the FCC will submit reports on these two new Systems of Records to both Houses of Congress.

ADDRESSES: Address comments to Les Smith, Performance Evaluation and Record Management, Room 1-A804, Federal Communications Commission, 445 12th Street, SW, Washington, DC 20554, or via the Internet at lesmith@fcc.gov.

FOR FURTHER INFORMATION CONTACT: Les Smith, Performance Evaluation and Records Management, Room 1-A804, Federal Communications Commission, 445 12th Street, SW, Washington, DC 20554 or via the Internet at lesmith@fcc.gov or Mary Linda Norman, AMD-Financial Operations, Federal Communications Commission, at (202) 418-1936 or via the Internet at mlnorman@fcc.gov.

SUPPLEMENTARY INFORMATION: As required by the Privacy Act of 1974, 5 U.S.C. 552a(e)(4), this document sets forth notice of the proposed system of records maintained by the FCC. This notice is a summary of more detailed information which may be viewed at the location given in the ADDRESSES section above. The purpose of maintaining FCC/OMD-9, “Commission Registration System” (“CORES”), is to enable the Office of the Managing Director, AMD-Financial Operations, to use the records contained on the CORES form to maintain the required accounts receivable and to collect fines and debts due the Federal Communications Commission. This information also assures that the individuals, or the entities which they represent, receive any refunds due.

FCC/OMD-9 “Commission Registration System” (“CORES”).

SYSTEM NAME:

Commission Registration System (“CORES”).

SYSTEM LOCATION:

Financial Operations Group, Associate Managing Director-Financial Operations (AMD-FO), Office of Managing Director (OMD), Federal Communications Commission (FCC), 445 12th Street, SW, Room 1-A625, Washington, DC 20554.

CATEGORIES OF INDIVIDUALS COVERED BY THE SYSTEM:

Records in this system include information on individuals (acting on their own behalf or on behalf of a corporate entity) who are doing business with the Federal Communications Commission. The FCC Registration Number will be assigned by the Commission Registration System (CORES). The Registration Number will be required for anyone doing business with the Commission (feeable) after December 31, 2000 to ensure that they receive any refunds due, to service public inquiries, and to comply with the Debt Collection Improvement Act of 1996.

CATEGORIES OF RECORDS IN THE SYSTEM:

Records in this system include: Names; Address(es); Social Security Numbers (SSN); Taxpayer Identification Numbers (TIN); FCC Registration Numbers (FRN); Business entity type (person or company); Telephone number(s); Fax number(s); E-mail address(es); and Addresses of individuals or entities.

AUTHORITY FOR MAINTENANCE OF THE SYSTEM:

Communications Act of 1934, as amended, Sections 8 and 9 and the Debt Collection Improvement Act of 1996, Pub. L. 104-134.

PURPOSE(S):

The primary uses of the records contained on this form are to maintain required accounts receivable, and collect fines and debts due the Federal Communications Commission. This information also assures that the individuals, or the entities which they represent, receive any refunds due.

ROUTINE USES OF RECORDS MAINTAINED IN THE SYSTEM, INCLUDING CATEGORIES OF USERS AND THE PURPOSES OF SUCH USES:

1. Where there is an indication of a violation or potential violation of a statute, regulation, rule, or order, records from this system may be referred to the appropriate Federal, State, or local agency responsible for investigating or prosecuting a violation, or for enforcing or implementing the statute, rule, regulation or order.

2. A record from this system may be disclosed to request information from a Federal, State, or local agency maintaining civil, criminal, or other relevant enforcement such as licenses, if necessary, to obtain information relevant to a FCC decision concerning the hiring or retention of an employee, the issuance of a security clearance, the letting of a contract, or the issuance of a license, grant, or other benefit.

3. A record from this system may be disclosed to a Federal agency, in response to its request, in connection with the hiring or retention of an employee, the issuance of a security clearance, the reporting of an investigation of an employee, the letting of a contract, or the issuance of a license, grant or other benefit.

4. A record on an individual in this system of records may be disclosed to a Congressional office in response to an inquiry the individual has made to the Congressional office.

5. A record on an individual in this system of records may be disclosed, where pertinent, in any legal proceeding to which the Commission is a party before a court or administrative body.

6. A record from this system of records may be disclosed to the Department of Justice or in a proceeding before a court or adjudicative body when:

7. The United States, the Commission, a component of the Commission, or, when represented by the Government, an employee of the Commission is a party to litigation or anticipated litigation or has an interest in such litigation, and

8. The Commission determines that the disclosure is relevant or necessary to the litigation.

9. A record from this system of records which concerns information on past due debts to the Federal Government may be disclosed to the Department of the Treasure, Financial Management Service, other federal agencies and/or your employer to offset your salary, IRS tax refund, or other payments to collect that debt.

In each of these cases, the FCC will determine whether disclosure of the records is compatible with the purpose for which the records were collected.

POLICIES AND PRACTICES FOR STORING, RETRIEVING, ACCESSING, RETAINING, AND DISPOSING OF RECORDS IN THE SYSTEM:

STORAGE:

Records are maintained in paper files, computer printout, and magnetic tape.

RETRIEVABILITY:

By name and/or type of transaction; Processing number; Social Security Number; Taxpayer Identification Number; FCC Registration Number; Employer Identification Number; or Sequential number.

SAFEGUARDS:

Records are located in secured metal file cabinets, metal vaults, and in metal file cabinets in secured rooms or secured premises, with access limited to those individuals whose official duties required access. Electronic record files are secured by passwords which are available only to authorized personnel whose duties require access.

RETENTION AND DISPOSAL:

Retained for two years following the end of the current fiscal year; then transferred to the Federal Records Center and destroyed when 6 years and 3 months old.

SYSTEM MANAGER(S) AND ADDRESS:

Financial Management Division, Associate Managing Director—Financial Operations (AMD-FO), Office of Managing Director (OMD), Federal Communications Commission (FCC), 445 12th Street, SW, Room 1-A625, Washington, DC 20554.

NOTIFICATION PROCEDURE:

Address inquiries to the system manager.

RECORD ACCESS PROCEDURES:

Same as above.

CONTESTING RECORD PROCEDURE:

Same as above.

RECORD SOURCE CATEGORIES:

Subject individual; Federal Reserve Bank; FCC CORES forms files; and Attorney-at-Law of the subject individual.

Federal Communications Commission.
Magalie Roman Salas,
Secretary.

[FR Doc. 00-8586 Filed 4-5-00; 8:45 am]

BILLING CODE 6712-01-P